DEPARTMENT OF ENERGY

[OE Docket No. EA-220-D]

Application To Export Electric Energy; NRG Power Marketing LLC

AGENCY: Office of Electricity, Department of Energy.

ACTION: Notice of application.

SUMMARY: NRG Power Marketing LLC (Applicant or NRGPML) has applied for authorization to transmit electric energy from the United States to Canada pursuant to the Federal Power Act.

DATES: Comments, protests, or motions to intervene must be submitted on or before January 14, 2021.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On December 2, 2020, NRGPML filed an application with DOE (Application or App.) for renewal of its authorization to transmit electric energy from the United States to Canada for a term of five years. NRGPML states that it “is a Delaware limited liability company with a principal place of business in Princeton, New Jersey.” App. at 2. NRGPML further represents that it “is a wholly-owned subsidiary of NRG Energy, Inc.” Id. at 3. NRGPML adds that it “does not own or any electric generation or transmission facilities, nor does it hold a franchise or service territory for the transmission, distribution, or sale of electricity.” Id. at 4.

NRGPML further states that it “will purchase the electricity that it may export, on either a firm or an interruptible basis, from wholesale generators, electric utilities, federal power marketing agencies and affiliates through negotiated agreements that have been voluntarily executed by the selling parties after considering their own need for any such electricity.” App. at 5. NRGPML contends that its proposed exports “will not impair or tend to impede the sufficiency of electric power supplies in the United States or the regional coordination of electric utility planning or operations.” Id. at 5-6.

NRGPML states that “as a power marketer that does not own or operate a transmission system . . ., [it] does not have the ability to cause a violation of the terms and conditions in the existing authorizations associated with international transmission facilities.” App. at 6. NRGPML also represents that it “will comply with such requirements as may be imposed by the Department on other power marketers with blanket electricity export authorization.” Id. at 8.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning NRGPML's application to export electric energy to Canada should be clearly marked with OE Docket No. EA-220-D. Additional copies are to be provided directly to Justin Gilli, 804 Carnegie Center, Princeton, NJ 08540, Justin.Gilli@nrg.com; Catherine Krupka, 700 Sixth St. NW, Suite 700, Washington, DC 20001-3980, catherinekrupka@eversheds-sutherland.com; and Allison E. Speaker, 700 Sixth St. NW, Suite 700, Washington, DC 20001-3980, allisonspeaker@eversheds-sutherland.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on December 9, 2020.
Christopher Lawrence,
Management and Program Analyst, Energy Resilience Division, Office of Electricity.

[FR Doc. 2020-27476 Filed 12-14-20; 8:45 am]

BILLING CODE 6450-01-P